DEPARTMENT OF EDUCATION

[Docket No. ED-2021-SCC-0131]

Agency Information Collection Activities; Submission to the Office of Management and Budget for Review and Approval; Comment Request; Early Childhood Longitudinal Study, Kindergarten Class of 2023-24 (ECLS-K:2024) Kindergarten and First-Grade Field Test Data Collection, National Sampling, and National Recruitment

AGENCY: Institute of Educational Science (IES), Department of Education (ED).

ACTION: Notice.

SUMMARY: In accordance with the Paperwork Reduction Act of 1995, ED is proposing a revision of a currently approved collection.

DATES: Interested persons are invited to submit comments on or before December 20, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) Kindergarten and First-Grade Field Test Data Collection, National Sampling, and National Recruitment.

OMB Control Number: 1850-0750.

Type of Review: A revision of a currently approved collection.

Respondents/Affected Public: Individuals and Households.

Total Estimated Number of Annual Responses: 20,895.

Total Estimated Number of Annual Burden Hours: 15,599.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to non-parental care, early care and education programs, and school; and children's experiences and growth through the elementary grades. The Early Childhood Longitudinal Study, Kindergarten Class of 2023-24 (ECLS-K:2024) is the fourth cohort in the series of early childhood longitudinal studies that began with the Early Childhood Longitudinal Study, Kindergarten Class of 1998-99 (ECLS-K) and continued with the Early Childhood Longitudinal Study, Birth Cohort (ECLS-B), and the Early Childhood Longitudinal Study, Kindergarten Class of 2010-11 (ECLS-K:2011).

In preparation for the ECLS-K:2024 data collections, several OMB packages have been cleared or have been planned for submission. Prior to the field test collection of data from parents of preschool-aged children, in-person focus groups with parents of preschoolers and usability testing of the preschool parent survey instruments were conducted in 2019 (OMB 1850-0803 v.246 and OMB 1850-0803 v.253, respectively). The field test with preschool parents was conducted in the spring of 2020 (OMB 1850-0750 v.19). In order to test recruitment messages and materials for the field test and national data collections, online focus groups with school administrators, teachers, and parents were conducted in fall 2019 and spring 2020 (OMB 1850-0803 v.255 & v.264). Additionally, usability testing of the kindergarten and first-grade field test instruments was conducted in early 2021 (OMB 1850-0803 v.280).

This current request is to conduct a field test of the ECLS-K:2024 kindergarten and first-grade data collection activities to evaluate the design of the national study's kindergarten and first-grade surveys and child assessments, as well as the operational procedures (that is, sampling and recruitment) for the national kindergarten and first-grade data collections in the fall 2023, spring 2024, and spring 2025. This data collection to evaluate the kindergarten and first-grade instruments and procedures is referred to throughout the remainder of this package as the K-1 field test. District and school sampling and recruitment activities for the K-1 field test will occur in spring 2022, while student sampling will occur in August and September 2022. From September through November 2022, trained study field staff will visit the participating schools to conduct in-person, one-on-one child assessments. Parents, teachers, and school administrators will also be asked to complete web surveys. As testing and development continues, it is anticipated that changes to the surveys, website language, and respondent materials will be necessary; a change request describing these changes will be submitted in spring 2022 prior to the K-1 field test data collection. Furthermore, this package also includes a request to conduct national district and school sampling and recruitment from fall 2022 to spring 2023. These recruitment activities will closely mimic what will be done in the K-1 field test but will occur over a much longer period of time.

Dated: November 16, 2021.
Stephanie Valentine,
PRA Coordinator, Strategic Collections and Clearance Governance and Strategy Division, Office of Chief Data Officer, Office of Planning, Evaluation and Policy Development.

[FR Doc. 2021-25307 Filed 11-18-21; 8:45 am]

BILLING CODE 4000-01-P